DEPARTMENT OF HEALTH AND HUMAN SERVICES

National Institutes of Health

Kidney, Urologic, and Hematologic Diseases Interagency Coordinating Committee; Urology Subcommittee Workshop

SUMMARY: The Urology Subcommittee of the Kidney, Urologic, and Hematologic Diseases Interagency Coordinating Committee (KUHICC) will hold a 1-day workshop on November 4, 2013. The workshop will be open to the public, with attendance limited to space available.

DATES: The workshop will be held on November 4, 2013, from 8:00 a.m. to 3:30 p.m. Requests for registration must occur 7 days prior to the workshop.

ADDRESSES: The workshop will be at the National Institutes of Health, Office of Research on Women's Health, Room 401, 6707 Democracy Boulevard, Rockville, MD 20817.

FOR FURTHER INFORMATION CONTACT: For further information concerning this workshop, contact Dr. Tamara Bavendam, Co-Chair, Kidney, Urologic, and Hematologic Diseases Interagency Coordinating Committee—Urology Subcommittee, National Institute of Diabetes and Digestive and Kidney Diseases, 6707 Democracy Boulevard, Bethesda, Room 615, MSC 5458, Bethesda, MD 20892-5458, telephone: 301-594-4733; email: tamara.bavendam@nih.gov.

SUPPLEMENTARY INFORMATION: The KUHICC facilitates cooperation, communication, and collaboration on kidney, urologic, and hematologic diseases among government entities. The November 4, 2013, workshop held by the KUHICC Urology Subcommittee, also called the “Urology Interagency Coordinating Committee (UICC), will discuss research needs and new directions in women's urologic health that can assist the NIDDK in development of a new Women's Urologic Health Research Program. An agenda for this workshop is available by contacting Dr. Tamara Bavendam, email: tamara.bavendam@nih.gov.

Any interested person may file written comments with the Committee by forwarding their statement to the contact person listed on this notice. The statement should include the name, address, telephone number and, when applicable, the business or professional affiliation of the interested person. Because of time constraints for the workshop, there will not be time on the agenda for oral comments from members of the public.

Please note that seating is limited and attendance will be first-come, first-served. Non-federal individuals planning to attend the workshop should register by email to Dr. Tamara Bavendam, email: tamara.bavendam@nih.gov and John Hare, The Scientific Consulting Group, Inc. (jhare@scgcorp.com) after October 15, 2013.

Please put “Registration UICC Nov 4 Meeting” in the subject line. Request for registration should occur at least 7 days prior to the workshop. Individuals who plan to attend and need special assistance, such as sign language interpretation or other reasonable accommodations, should inform the Contact Person listed below at least 10 days in advance of the workshop.

Dated: September 30, 2013.
Griffin P. Rodgers,
Director, National Institute of Diabetes and Digestive and Kidney Diseases, National Institutes of Health.

[FR Doc. 2013-25278 Filed 10-24-13; 8:45 am]

BILLING CODE 4140-01-P